DEPARTMENT OF AGRICULTURE

Rural Business—Cooperative Service

Inviting Applications for Value-Added Producer Grants

AGENCY: Rural Business—Cooperative Service, USDA.

ACTION: Notice to correct dates.

SUMMARY: The Rural Business—Cooperative Service (RBS) announces corrections for anticipated award date and eligible grant period dates for the Value-Added Producer Grant.

SUPPLEMENTARY INFORMATON: RBS published a Notice of Funds Availability (NOFA) on September 1, 2009 stating an anticipated award date of January 7, 2010 for Value-Added Producer Grants. Due to the delay in publication of the NOFA in the Federal Register, this award date does not allow sufficient time for scoring and processing applications. Therefore the anticipated award date is May 3, 2010.

In addition, the delay was not reflected in dates for grant period eligibility for which the NOFA incorrectly stated “Projects cannot begin earlier than March 1, 2010 and cannot end later than February 28, 2013. Applications that request funds for a time period beginning prior to March 1, 2010 and/or ending after February 28, 2013 will be considered ineligible, as will applications that exceed a maximum 36 months in length. Applicants may propose a start date falling any time during March 1, 2010 through September 30, 2010.”

Therefore, the corrected grant period times are as follows. Projects cannot begin earlier than June 1, 2010 and cannot end later than November 30, 2013. Applications that request funds for a time period beginning prior to June 1, 2010 and/or ending after November 30, 2013 will be considered ineligible, as will applications that exceed a maximum of 36 months in length. Applicants may propose a start date falling any time during June 1, 2010 through November 30, 2010. Finally, the deadline for submission of applications to State Offices for a preliminary review is revised from October 1, 2009 to November 2, 2009.

Dated: September 11, 2009.
Judith A. Canales,
Administrator, Rural Business—Cooperative Service.

[FR Doc. E9-23939 Filed 10-2-09; 8:45 am]

BILLING CODE 3410-XY-P